DEPARTMENT OF DEFENSE

Department of the Army

Performance Review Boards Membership

AGENCY: Department of the Army, DoD.

ACTION: Notice.

SUMMARY: Notice is given of the names of members of a Performance Review Board for the Department of the Army.

EFFECTIVE DATE: October 28, 2002.

FOR FURTHER INFORMATION CONTACT: Marilyn Ervin, U.S. Army Senior Executive Service Office, Assistant Secretary of the Army, Manpower & Reserve Affairs, 111 Army, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the U.S. Army Communications-Electronics Command (CECOM), U.S. Army Materiel Command are:

1. BG Michael R. Mazzucchi, Program Executive Officer, Command, Control and Communications (Tactical).

2. Mr. Edward Bair, Program Executive Officer, Intelligence, Electronic Warfare and Sensors.

3. Mr. Edward Thomas, Director, CECOM Software Engineering Center, U.S. Army Communications-Electronics Command.

4. Mr. John Perrapato, Deputy Program Executive Officer, Command and Control Systems.

5. Mr. Edward Elgart, Director, CECOM Acquisition Center, U.S. Army Communications-Electronics Command.

The members of the Performance Review Board for the U.S. Army Aviation and Missile Command (AMCOM), U.S. Army Materiel Command are:

1. Ms. L. Marlene Cruze, Director, Acquisition Center, U.S. Army Aviation and Missile Command.

2. Dr. Richard Amos, Acting Associated Director (Systems), Research, Development and Engineering Center, U.S. Army Aviation and Missile Command.

3. Mr. John Chapman, Executive Director of Integrated Materiel Management Center, U.S. Army Aviation and Missile Command.

4. Mr. Bill Reeves, Assistant to the Deputy Commanding General for Research, Development and Acquisition, U.S. Army Space and Missile Defense Command.

Luz D. Ortiz,
Army Federal Register Liaison Officer.

[FR Doc. 02-27823 Filed 10-31-02; 8:45 am]

BILLING CODE 3710-08-M